DEPARTMENT OF THE TREASURY

Fiscal Service

Financial Management Service; Proposed Collection of Information: CMIA Annual Report and Interest Calculation Cost Claims

AGENCY: Financial Management Service, Fiscal Service, Treasury.

ACTION: Notice and request for comments.

SUMMARY: The Financial Management Service, as part of its continuing effort to reduce paperwork and respondent burden, invites the general public and other Federal agencies to take this opportunity to comment on a continuing information collection. By this notice, the Financial Management Service solicits comments concerning the Annual Report and Interest Calculation Cost Claim request required under the provisions of the Cash Management Improvement Act (CMIA), Pub. L. 101-453, as amended.

DATES: Written comments should be received on or before March 15, 2005.

ADDRESSES: Direct all written comments to Financial Management Service, 3700 East West Highway, Records and Information Management Program Staff, Room 135, Hyattsville, Maryland 20782.

FOR FURTHER INFORMATION CONTACT: Requests for additional information should be directed to Fred Williams, Intergovernmental Programs Division, 401 14th Street, SW, Room 406D, Washington, DC 20227, (202) 874-6736.

SUPPLEMENTARY INFORMATION: Pursuant to the Paperwork Reduction Act of 1995, (44 U.S.C. 3506(c)(2)(A), the Financial Management Service solicits comments on the collection of information described below:

Title: CMIA Annual Report and Interest Calculation Cost Claims.

OMB Number: 1510-0061.

Form Number: None.

Abstract: States and Territories must report interest owed to and from the Federal government for major Federal assistance programs on an annual basis using the internet application (CMIAS). States and Territories also must report interest calculation cost claims annually using CMIAS. The data is used by Treasury and other Federal agencies to verify State and Federal interest claims, to assess State and Federal cash management practices and to exchange amounts of interest owed, and to compensate States and Territories for permissible administrative expenses.

Current Actions: Extension of currently approved collection.

Type of Review: Regular.

Affected Public: Federal Government and State Governments.

Estimated Number of Respondents: 56.

Estimated time Per Respondent: Average of 403 hours.

Estimated Total Annual Burden Hours: 22,579.

Comments: Comments submitted in response to this notice will be summarized and/or included in the request for Office of Management and Budget approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance and purchase of services to provide information.

Dated: January 7, 2005.
Gary Grippo,
Assistant Commissioner, Federal Finance.

[FR Doc. 05-816 Filed 1-13-05; 8:45 am]

BILLING CODE 4810-35-M